CONSUMER PRODUCT SAFETY COMMISSION

Sunshine Act Meeting

TIME AND DATE: February 11, 2015, 10:00 a.m.-12:00 p.m.

PLACE: Hearing Room 420, Bethesda Towers, 4330 East West Highway, Bethesda, MD.

STATUS: Commission Meeting (Briefing)—Open to the Public.

MATTER TO BE CONSIDERED: Briefing Matter: Final Regulation: Safety Standard for Frame Child Carriers.

The staff will brief the Commission on establishing a mandatory safety standard for frame child carriers pursuant to section 104 of the Consumer Product Safety Improvement Act of 2008. This would incorporate the applicable voluntary standard without any modifications. The Commission's regulations for Requirements Pertaining to Third Party Conformity Assessment Bodies would also change to include the mandatory safety standard for frame child carriers in the list of Commission-issued Notice of Requirements.

A live webcast of the meeting can be viewed at www.cpsc.gov/live.

CONTACT PERSON FOR MORE INFORMATION: Rockelle Hammond, Office of the Secretary, U.S. Consumer Product Safety Commission, 4330 East West Highway, Bethesda, MD 20814, (301) 504-7923.

Dated: February 4, 2015.
Alberta E. Mills,
Acting Secretary.

[FR Doc. 2015-02605 Filed 2-6-15; 4:15 pm]

BILLING CODE 6355-01-P